DEPARTMENT OF VETERANS AFFAIRS

Cost-of-Living Adjustments for Service-Connected Benefits

AGENCY: Department of Veterans Affairs.

ACTION: Notice.

SUMMARY: As required by the Veterans' Compensation Cost-of-Living Adjustment Act of 2018, the Department of Veterans Affairs (VA) is hereby giving notice of adjustments in certain benefit rates. These adjustments affect the compensation program.

DATES: These adjustments became effective on December 1, 2018, the date provided by Public Law 115-258.

FOR FURTHER INFORMATION CONTACT: Jacqueline Imboden, Acting Chief, Policy Staff (211A), Compensation Service, Department of Veterans Affairs, 810 Vermont Avenue NW, Washington, DC 20420, (202) 461-9700. (This is not a toll-free telephone number.)

SUPPLEMENTARY INFORMATION: Section 2 of Public Law 115-258 provides for an increase in each of the rates in sections 1114, 1115(1), and 1162 of title 38 United States Code (U.S.C.). VA is required to increase these benefit rates by the same percentage as increases in the benefit amounts payable under title II of the Social Security Act. The increased rates are required to be published in the Federal Register.

The Social Security Administration has announced that there will be a 2.8 percent cost-of-living increase in Social Security benefits for 2019. Therefore, applying the same percentage, the following rates for VA's compensation program became effective on December 1, 2018:

Disability evaluation percent | Monthly rate
Disability Compensation
[38 U.S.C. 1114]
10 | $140.05
20 | 276.84
30 | 428.83
40 | 617.73
50 | 879.36
60 | 1,113.86
70 | 1,403.71
80 | 1,631.69
90 | 1,833.62
100 | 3,057.13
(38 U.S.C. 1114(k) through (t)):
38 U.S.C. 1114(k) | $108.57
38 U.S.C. 1114(l) | 3,804.04
38 U.S.C. 1114(m) | 4,198.14
38 U.S.C. 1114(n) | 4,775.68
38 U.S.C. 1114(o) | 5,338.04
38 U.S.C. 1114(p) | 5,338.04
38 U.S.C. 1114(r) | 2,289.60; 3,411.05
38 U.S.C. 1114(s) | 3,421.90
38 U.S.C. 1114(t) | 3,411.05
Additional Compensation for Dependents
[38 U.S.C. 1115(1)]
38 U.S.C. 1115(1):
38 U.S.C. 1115(1)(A) | 170.45
38 U.S.C. 1115(1)(B) | 295.28; 84.69
38 U.S.C. 1115(1)(C) | 113.99; 84.69
38 U.S.C. 1115(1)(D) | 136.79
38 U.S.C. 1115(1)(E) | 326.77
38 U.S.C. 1115(1)(F) | 273.58
Clothing Allowance
[38 U.S.C. 1162]
817.48 per year

Signing Authority

The Secretary of Veterans Affairs, or designee, approved this document and authorized the undersigned to sign and submit the document to the Office of the Federal Register for publication electronically as an official document of the Department of Veterans Affairs. Robert L. Wilkie, Secretary, Department of Veterans Affairs, approved this document on March 12, 2019, for publication.

Dated: March 15, 2019.
Luvenia Potts,
Program Specialist, Office of Regulation Policy & Management, Office of the Secretary, Department of Veterans Affairs.

[FR Doc. 2019-05287 Filed 3-19-19; 8:45 am]

BILLING CODE 8320-01-P